DEPARTMENT OF EDUCATION

Reopening the Fiscal Year (FY) 2022 Competition for Certain Eligible Applicants; Education Research and Special Education Research Grant Programs

AGENCY: Institute of Education Sciences, Department of Education.

ACTION: Notice.

SUMMARY: On June 10, 2021, we published in the Federal Register a notice inviting applications (NIA) for the FY 2022 Education Research and Special Education Research Grant Programs, Assistance Listing Numbers (ALNs) 84.305A, 84.305B, 84.305D, 84.305R, 84.305S, and 84.324X. The NIA established a deadline date of September 9, 2021, for the transmittal of applications for the Education Research, Research Training Programs in the Education Sciences, Research Grants Focused on Systematic Replication, and Research to Accelerate Pandemic Recovery in Special Education competitions, ALNs 84.305A, 84.305B, 84.305R, and 84.324X-2 (the “affected competitions”). This notice reopens the affected competitions to allow more time for the preparation and submission of applications by eligible applicants that are affected by recent severe weather and located in a federally declared major disaster area designated for Individual Assistance or Public Assistance under Presidential major disaster declarations DR-4609-TN, DR-4610-CA, DR-4611-LA, DR-4614-NJ, and DR-4615-NY (“affected applicants”).

DATES: Deadline for Transmittal of Applications for Affected Applicants: September 30, 2021.

ADDRESSES: For the addresses for obtaining and submitting an application, please refer to our Common Instructions for Applicants to Department of Education Discretionary Grant Programs, published in the Federal Register on February 13, 2019 (84 FR 3768) and available at www.govinfo.gov/content/pkg/FR-2019-02-13/pdf/2019-02206.pdf.

FOR FURTHER INFORMATION CONTACT: For the contact person associated with a particular research competition, please refer to the chart in the NIA, available at www.govinfo.gov/app/details/FR-2021-06-10/2021-12173, as well as in the relevant Request for Application (available at https://ies.ed.gov/funding/) and application package.

If you use a telecommunications device for the deaf (TDD) or a text telephone (TTY), call the Federal Relay Service (FRS), toll-free, at 1-800-877-8339.

SUPPLEMENTARY INFORMATION: On June 10, 2021, we published in the Federal Register (86 FR 30921) the NIA for the Education Research and Special Education Research Programs. We are reopening the affected competitions until September 30, 2021, to allow affected applicants more time to prepare and submit their applications.

Eligibility

The reopening applies to eligible applicants under the affected competitions—ALNs 84.305A, 84.305B, 84.305R, and 84.324X-2—that are affected applicants. Eligibility requirements for applicants for the affected competitions are specified in the NIA. The federally declared major disaster areas under these declarations are the jurisdictions identified by the Federal Emergency Management Agency under declarations DR-4609-TN, DR-4610-CA, DR-4611-LA, DR-4614-NJ, and DR-4615-NY in which assistance to individuals or public assistance has been authorized. To determine if you are an affected applicant, see the Emergency Declarations available at: www.fema.gov/disaster/4609, www.fema.gov/disaster/4610, www.fema.gov/disaster/4611, www.fema.gov/disaster/4614, and www.fema.gov/disaster/4615.

To qualify as an affected applicant, the applicant must either have a mailing address that is located in a jurisdiction that is part of one of the applicable federally declared disaster areas or provide a certification in its application that it or its planned subawardees and contractors identified in the application are located in one of these areas. Affected applicants must also provide appropriate supporting documentation, if requested.

We are not reopening the application period for all applicants. Therefore, we will reject any application submitted as part of this reopened application submission period from applicants that are not affected applicants.

Note: All information in the NIA for this competition remains the same, except for the deadline date for the transmittal of applications for affected applicants.

Program Authority: 20 U.S.C. 9501 et seq. and the American Rescue Plan Act of 2021 (Pub. L. 117-2) Sec. 2010.

Accessible Format: On request to the program contact person listed under FOR FURTHER INFORMATION CONTACT, individuals with disabilities can obtain this document, the Request for Application, and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Mark Schneider,
Director, Institute of Education Sciences.

[FR Doc. 2021-19706 Filed 9-13-21; 8:45 am]

BILLING CODE 4000-01-P